Title 3—

The President

Proclamation 10977 of October 3, 2025

National Manufacturing Day, 2025

By the President of the United States of America

A Proclamation

From the first mills and forges that built our young Republic to the cutting-edge industries of today, manufacturing has always been the foundation of our prosperity, the strength of our communities, the safeguard of our independence, and the engine of our greatness. This National Manufacturing Day, we celebrate the unmatched might of America's industrial base—and we acknowledge the enduring truth that no nation can rival the strength of the American workforce when we manufacture products at home.

To restore America's industrial power, in my first 100 days in office, I secured more than $5 trillion in new private and foreign investments in the United States, creating more than 450,000 new jobs and setting the stage for a new era of American manufacturing dominance. These commitments prove that innovation surges, factories expand, opportunities multiply, and capital flows back into our Nation when we promote production on our shores.

By placing reciprocal tariffs on foreign nations whose trade policies threaten our economy, we are protecting American manufacturing from the unfair practices that have hollowed out our manufacturing base in past decades. My tariff policy is reminding the world that America's trade policy must serve the American people first, strengthen American industries, and ensure that no other country prospers at America's expense. Already, my Administration has brought in billions of dollars in tariff revenue—and in the years ahead, that revenue will be invested in communities from coast to coast, securing lasting benefits for the American people.

At the same time, we are eliminating burdensome regulations that stifle innovation and growth. After 4 years of decline and stagnation, we are cutting red tape, rejecting the failures of the Green New Scam agenda, and pursuing bold reforms that save taxpayers billions of dollars every year. These actions are sparking growth, unleashing innovation, creating jobs, and empowering American enterprise to build and expand. Through the passage of the historic One Big Beautiful Bill Act earlier this year, we enacted 100 percent immediate expensing for new factories and industrial improvements, making the United States the investment capital of the world and ensuring that expansion remains the hallmark of American manufacturing for decades to come. And through a whole-of-government approach to workforce development, my Administration is also harnessing artificial intelligence to accelerate productivity, revitalize manufacturing, create new industries, and ensure no American workers are left behind.

This National Manufacturing Day, we affirm that the strength of our Republic rests on the strength of our industries and the determination of our workers. Under my leadership, we are protecting domestic production, enforcing fair trade, driving new investment into our homeland, and securing lasting prosperity for our people by ensuring that America remains the world's leading industrial power.

NOW, THEREFORE, I, DONALD J. TRUMP, President of the United States of America, by virtue of the authority vested in me by the Constitution and the laws of the United States, do hereby proclaim October 3, 2025, as National Manufacturing Day. I call upon all Americans to celebrate the entrepreneurs, innovators, and workers in manufacturing who are making our communities strong.

IN WITNESS WHEREOF, I have hereunto set my hand this third day of October, in the year of our Lord two thousand twenty-five, and of the Independence of the United States of America the two hundred and fiftieth.

[FR Doc. 2025-19497

Filed 10-6-25; 11:15 am]

Billing code 3395-F4-P